DEPARTMENT OF VETERANS AFFAIRS

Executive Committee to the Voluntary Service National Advisory Committee; Notice of Meeting

The Department of Veterans Affairs gives notice under Public Law 92-463 (Federal Advisory Committee Act) that the Executive Committee to the Department of Veterans Affairs Voluntary Services (VAVS) National Advisory Committee (NAC) will meet October 18-19, 2004, at the Double Tree Paradise Valley Resort, Scottsdale, Arizona. The sessions will begin at 8:30 a.m. each day and end at 4:30 p.m. on October 18 and at 12 noon on October 19. The meeting is open to the public.

The NAC consists of sixty-three national organizations and advises the Secretary, through the Acting Under Secretary for Health, on the coordination and promotion of volunteer activities within VA health care facilities. The Executive Committee consists of nineteen representatives from the NAC member organizations and acts as the NAC governing body in the interim period between NAC annual meetings.

Business topics for the October 18 morning session include: review goals and objectives, review of minutes, Veterans Health Administration update and a VAVS update of the Voluntary Service program's progress since the 2004 NAC annual meeting, Parke Board update, review of the 2004 annual meeting evaluations and the VAVS Partner's Treasurer report. The October 18 afternoon business session topics include: The 59th annual meeting plans, workshop and plenary sessions/suggestions. The October 19 morning business session topics include: 2006 NAC annual meeting planning, review of recommendations from the 58th VAVS NAC meeting, subcommittee reports, standard operating procedure revisions, new business and Executive Committee appointments.

No time will be allocated at this meeting for receiving oral presentations from the public. However, interested persons may either attend or file statements with the Committee. Written statements may be filed either before the meeting or within 10 days after the meeting and addressed to: Ms. Laura Balun, Designated Federal Officer, Voluntary Service Office (10C2), Department of Veterans Affairs, 810 Vermont Avenue, NW., Washington, DC 20420. Individuals interested in attending are encouraged to contact Ms. Balun at (202) 273-8952.

By Direction of the Secretary.
Dated: September 13, 2004.
E. Philip Riggin,
Committee Management Officer.

[FR Doc. 04-21410 Filed 9-22-04; 8:45 am]

BILLING CODE 8320-01-M